DEPARTMENT OF THE INTERIOR

Bureau of Land Management

[L51010000.FX0000 LVRWB10B4040 LLCAC05000]

Notice Extending Scoping Period for the Notice of Intent To Prepare an Environmental Impact Statement for the Walker Ridge Wind Project, Lake and Colusa Counties, CA

AGENCY: Bureau of Land Management, Interior.

ACTION: Notice.

SUMMARY: The Bureau of Land Management (BLM) announces the extension of the scoping period for the Environmental Impact Statement (EIS) for the proposed Walker Ridge Wind Project, Lake and Colusa Counties, California. The BLM published a Notice of Intent to prepare the EIS in the Federal Register on August 13, 2010 [75 FR 49517], and in that notice provided for a scoping period to end on September 13, 2010. The BLM now extends the scoping period through October 13, 2010.

FOR FURTHER INFORMATION CONTACT: Bethney Lefebvre, telephone (707) 468-4000; address Ukiah Field Office, 2550 North State Street, Ukiah, California 95482; e-mail ukiahwindeis@ca.blm.gov.

SUPPLEMENTARY INFORMATION: The Notice of Intent provided for scoping comments on the Proposed Walker Ridge Wind Project to be received through September 13, 2010. The BLM is extending the scoping period to accommodate comment submission after the planned September 9th and September 10th public scoping meetings, and to address the broad public interest in the Project. Scoping comments on the proposed Walker Ridge Wind Project will now be accepted through October 13, 2010.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Thomas Pogacnik,
Deputy State Director, Natural Resources.

[FR Doc. 2010-25360 Filed 10-6-10; 8:45 am]

BILLING CODE 4310-40-P